DEPARTMENT OF THE INTERIOR

Fish and Wildlife Service

Privacy Act of 1974, As Amended; Revision of a System of Records

AGENCY: U.S. Fish and Wildlife Service, Interior.

ACTION: Proposed revisions to an existing system of records.

SUMMARY: The Department of the Interior (DOI) is issuing public notice of its intent to revise a system of records in its current inventory, Migratory Bird Population and Harvest Surveys—Interior, FWS-26, subject to the Privacy Act of 1974. This action is necessary to meet the requirements of the Privacy Act to publish in the Federal Register a notice of amended systems of records. This system of records was previously published in the Federal Register on March 24, 1981 (46 FR 18378). The agency is updating information on the system and adding new information on purposes, routine uses, and procedures.

DATES: Comments on this revised system of records must be received on or before June 22, 2015.

ADDRESSES: Address all comments on this revised system of records to U.S. Fish and Wildlife Service, Privacy Act Officer, Mail Stop IRTM, 5275 Leesburg Pike, Falls Church, Virginia 22041-3830; or by email at Melissa_Allen@fws.gov.

FOR FURTHER INFORMATION CONTACT: Melissa Allen, Privacy Act Officer, U.S. Fish and Wildlife Service, telephone: 703-358-2470, or fax: 703-358-2251.

SUPPLEMENTARY INFORMATION: The U.S. Fish and Wildlife Service's (FWS) migratory bird population and harvest survey programs collect information that is used in the promulgation of annual migratory bird hunting regulations. People who participate in annual migratory bird population surveys are professional biologists and biological technicians employed by cooperating Federal and State agencies; we collect and maintain their name, address, telephone number, and email address information in order to facilitate the communication and coordination efforts needed to conduct those surveys. People participating in migratory bird harvest surveys have obtained hunting licenses from a State wildlife agency (State) and have been identified as migratory bird hunters by the States. The States collect the required information from those hunters and provide the data to the FWS, which then selects samples of those hunters for voluntary mail surveys. Information collected by the States and provided to the FWS includes name, mailing address, email address, date of birth, date the license was issued, what migratory game birds the person hunted the previous year, and approximately how many birds he or she took the previous year. We updated information for this system of records to reflect current categories of individuals and records covered by the system, as well as current locations of records and system managers. We deleted all categories of individuals and records related to bird banding permits and bird band encounters from this system, because those categories now fall under the purview of the U.S. Geological Survey.

The Privacy Act (5 U.S.C. 552a(e)(11)) requires that the public be provided a 30-day period in which to comment on the intended use of the information in the system of records. The Office of Management and Budget (OMB), in Circular A-130, requires an additional 10-day period (for a total of 40 days) in which to make these comments. Any persons interested in commenting on this proposed system notice may do so by submitting comments in writing as indicated under ADDRESSES. Comments received within 40 days of publication will be effective as proposed at the end of the comment period, unless comments are received that would require a contrary determination. We will publish a revised notice if we make changes based on our review of comments received.

Public Comments

You may submit your comments and supporting materials to the address in the ADDRESSES section. We will not consider comments sent by email or fax, or written comments sent to an address other than the one listed in the ADDRESSES section.

If you submit a comment, your entire comment—including any personal identifying information—may be available to the public. If you submit a comment that includes personal identifying information, you may request that we withhold the information from public review, but we cannot guarantee that we will be able to do so.

Dated: February 5, 2015.
Melissa Allen,
U.S. Fish and Wildlife Service Privacy Act Officer.

INTERIOR/FWS-26

System name:

Migratory bird population and harvest surveys.

Security classification:

None.

System location:

The records are stored at the following offices of the U.S. Fish and Wildlife Service (FWS):

(1) Population surveys records: Division of Migratory Bird Management, U.S. Fish and Wildlife Service, Patuxent Wildlife Research Center, Merriam Building, 11510 American Holly Drive, Laurel, Maryland 20708.

(2) Harvest surveys records: Division of Migratory Bird Management, U.S. Fish and Wildlife Service, Patuxent Wildlife Research Center, 10815 Loblolly Pine Drive, Laurel, Maryland 20708.

Categories of individuals covered by the system:

Records are maintained by biologists and biological technicians who participate in the Mourning Dove Call-count Survey and the American Woodcock Singing-ground Survey. Records are also kept for all persons who obtain hunting licenses and indicate to the State licensing authority that they intend to hunt migratory game birds, as required by the Migratory Bird Harvest Information Program (50 CFR 20.20). This includes the subset of hunters who are selected to participate in one of the FWS's national harvest surveys.

Categories of records in the system:

Records for migratory bird population survey participants contain the name, address, work telephone number, facsimile number, and email address of each participant. Each migratory bird hunter record contains the name, mailing address, email address, date of birth, date the license was issued, what migratory game bird species the person hunted the previous year, and approximately how many birds he or she took the previous year.

Authority for maintenance of the system:

Migratory Bird Treaty Act (16 U.S.C. 703-712).

Purposes:

The purposes are to facilitate the communication and coordination efforts needed to conduct migratory bird population surveys, and to provide a sampling frame of migratory bird hunters for national migratory bird harvest surveys.

Routine uses of records maintained in the system, including categories of users and the purposes of such uses:

The FWS is the primary user of the system, and the primary uses of the records will be:

(1) To contact population survey participants annually and coordinate the scheduling, operating procedures, data transmittal, and reporting of results for each survey.

(2) To select members of the public (migratory bird hunters) and ask them to participate in voluntary harvest surveys.

(3) To mail survey forms to select members of the public. Electronic files containing the mailing information will be sent to a private company to print out the survey forms, insert them in envelopes, and deliver the survey forms to the U.S. Postal Service. Any company awarded this printing contract by the Government Publishing Office will be certified to handle Privacy Act materials. All databases will be deleted by the contractor upon at the end of each survey year. However, we will maintain records in accordance with the Service's applicable records schedule.

(4) To track the timing and types of responses from selected harvest survey participants. Upon completion of the harvest surveys, the personal identifier information is removed from each participant's survey response data, and the personal identification information is destroyed.

(5) To determine the total number of licensed migratory bird hunters in each State.

Disclosures outside the DOI may be made under the routine uses listed below without the consent of the individual if the disclosure is compatible with the purposes for which the record was collected.

(1) To the individual State wildlife agencies that provided the migratory bird hunter information to the FWS.

(2) To the Department of Justice (DOJ), or a court, adjudicative, or other administrative body or to a party in litigation before a court or adjudicative or administrative body, when:

(a) One of the following is a party to the proceeding or has an interest in the proceeding:

(i) The DOI or any component of the DOI;

(ii) Any DOI employee acting in his or her official capacity;

(iii) Any DOI employee acting in his or her individual capacity where the DOI or DOJ has agreed to represent the employee; or

(iv) The United States, when DOI determines that DOI is likely to be affected by the proceeding; and

(b) The DOI deems the disclosure to be:

(v) Relevant and necessary to the proceedings; and

(vi) Compatible with the purpose for which we compiled the information.

(3) To the appropriate Federal, State, tribal, local, or foreign governmental agency that is responsible for investigating, prosecuting, enforcing, or implementing a statute, rule, regulation, order, or license, when we become aware of an indication of a violation or potential violation of the statute, rule, regulation, order, or license.

(4) To a congressional office in response to an inquiry to the office by the individual to whom the record pertains.

(5) To the General Accounting Office or Congress when the information is required for the evaluation of the migratory bird population and harvest surveys programs.

(6) To a contractor, expert, or consultant employed by the FWS when necessary to accomplish a FWS function related to this system of records.

Policies and practices for storing, retrieving, accessing, retaining, and disposing of records in the system.

Storage:

Paper records are stored in file boxes in rooms and offices until they have been converted to electronic form, after which they are shredded. Electronic records are stored on a computer server and disks or tapes.

Retrievability:

Electronic records may be searched on or reported by any data field.

Safeguards:

Access to records in the system is limited to authorized personnel whose official duties require such access, in accordance with requirements found in the Code of Federal Regulations (43 CFR 2.51). Paper records are maintained in secured rooms. Electronic records are password-protected, backed up daily, and maintained with safeguards meeting the security requirements of 43 CFR 2.51.

Retention and disposal:

Records are maintained in accordance with the Service's applicable records schedule.

System manager and address:

Chief, Division of Migratory Bird Management, U.S. Fish and Wildlife Service, 5275 Leesburg Pike, MS MB, Falls Church, Virginia 22041-3830.

Notification procedures:

Any individual may request information regarding this system of records, or information as to whether the system contains records pertaining to him/her, from the System Manager identified above. We require that the request to be in writing and signed by the requester, and to include the requester's full name, address, and Social Security number. See 43 CFR 2.60 for procedures on making inquiries.

Record access procedures:

For copies of your records, write to the System Manager identified above. The request envelope and letter should be clearly marked “PRIVACY ACT REQUEST FOR ACCESS.” A request for access must meet the content requirements of 43 CFR 2.63(b)(4).

Contesting record procedures:

Use the same procedures as “Records Access Procedures” section above. See 43 CFR 2.71.

Record source categories:

Records come from:

(1) Federal and State agencies that assign their personnel to participate in migratory bird population surveys; and

(2) State wildlife agencies that collect the information from licensed migratory bird hunters.

Exemptions claimed for the system:

None.

[FR Doc. 2015-11430 Filed 5-11-15; 8:45 am]

BILLING CODE 4310-55-P